DEPARTMENT OF HEALTH AND HUMAN SERVICES

Centers for Disease Control and Prevention

Board of Scientific Counselors, Office of Public Health Preparedness and Response; Meeting

In accordance with section 10 (a) (2) of the Federal Advisory Committee Act (Pub. L. 92-463), the Centers for Disease Control and Prevention (CDC), announces the following meeting of the aforementioned committee:

Time and Date: 3:00 p.m.-4:00 p.m., July 10, 2012.

Place: This meeting is accessible by teleconference only. Please contact CDC (see Contact for More Information) to obtain further instructions on how to participate.

Status: Participation by teleconference is limited by the number of open ports available.

Purpose: The Board of Scientific Counselors (BSC) is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters to be Discussed: The agenda item for this meeting: a motion and vote to establish a joint working group with the National Biodefense Science Board, Federal Advisory Committee to the Assistant Secretary for Preparedness and Response, U.S. Department of Health and Human Services. This joint BSC-NBSB working group will be charged with conducting a review of CDC's Division of Strategic National Stockpile. Membership of the joint working group will also be discussed.

Additional Information for Public Participants: Members of the public that wish to attend this meeting should pre-register by submitting the following information by email, facsimile, or phone (see Contact Person for More Information) no later than 12:00 noon (EDT) on Tuesday, July 3, 2012:

• Full Name,

• Organizational Affiliation,

• Complete Mailing Address,

• Citizenship, and

• Phone Number or Email Address

Contact Person for More Information: Marquita Black, OPHPR, Administrative Assistant, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities for both the Centers for Disease Control and Prevention and the Agency for Toxic Substances and Disease Registry.

Dated: June 14, 2012.
Elaine L. Baker,
Director, Management Analysis and Services Office, Centers for Disease Control and Prevention.

[FR Doc. 2012-15185 Filed 6-20-12; 8:45 am]

BILLING CODE 4163-18-P